DEPARTMENT OF ENERGY

[Docket No. EA-309]

Application To Export Electric Energy; Evergreen Wind Power, LLC

AGENCY: Office Electricity Delivery and Energy Reliability, DOE.

ACTION: Notice of Application.

SUMMARY: Evergreen Wind Power, LLC (Evergreen) has applied for authority to transmit electric energy from the United States to Canada pursuant to section 202(e) of the Federal Power Act.

DATES: Comments, protests, or requests to intervene must be submitted on or before May 18, 2006.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On March 20, 2006, the Office of Electricity Delivery and Energy Reliability (OE) of the Department of Energy (DOE) received an application from Evergreen to transmit electric energy from the United States to Canada. Evergreen is a limited liability company incorporated under the laws of the State of Delaware. Evergreen is indirectly owned and controlled by UPC Wind Partners, LLC. UPS Wind Partners, LLC is involved in the development, ownership, operation, and acquisition of wind generation in the United States. Evergreen has requested that an export authorization be issued with a 10-year term.

Evergreen is developing a 28-turbine wind generation facility, the Mars Hill Project, in Aroostook, Maine. The facility will be capable of producing 42 megawatts (MW), with a possible future expansion to 49.5 MW. Evergreen is in the process of negotiating power purchase agreements with several potential buyers; one is a Canadian entity in New Brunswick Province.

Evergreen proposes to arrange for the delivery of electric energy to Canada over the existing international transmission facilities owned by Maine Public Service Company. The construction, operation, maintenance, and connection of the international transmission facilities to be utilized by Evergreen as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the Evergreen application to export electric energy to Canada should be clearly marked with Docket EA-309. Additional copies are to be filed directly with Peter Gish, General Counsel, Evergreen Wind Power, LLC, 100 Wells Avenue, Suite 201, Newton, MA 02459, and David L. Schwartz, Natasha Gianvecchio, Sue Wang, Latham & Watkins LLP, 555 Eleventh Street, NW., Suite 1000, Washington, DC 20004.

A final decision will be made on this application after the environmental impacts have been evaluated pursuant to the National Environmental Policy Act of 1969, and a determination is made by DOE that the proposed action will not adversely impact on the reliability of the U.S. electric power supply system.

Copies of this application will be made available, upon request, for public inspection and copying at the address provided above or by accessing the program's Home Page at http://www.fe.doe.gov/programs/electricityregulation/. Upon reaching the Home page, scroll down and select “Pending Proceedings.”

Issued in Washington, DC, on April 12, 2006.
Anthony J. Como,
Director, Permitting and Siting, Office of Electricity Delivery and Energy Reliability.

[FR Doc. E6-5780 Filed 4-17-06; 8:45 am]

BILLING CODE 6450-01-P